DEPARTMENT OF LABOR

Employment and Training Administration

Application of State-Wide Personnel Actions to Unemployment Insurance Program

AGENCY: Employment and Training Administration, Labor.

ACTION: Notice.

SUMMARY: The Employment and Training Administration provided guidance to States explaining the Department's position concerning the application of State-wide personnel actions to the unemployment compensation program. The original guidance, UIPL No. 09-98, was published in the Federal Register on February 10, 1998, as continuing guidance. This guidance had not been rescinded. However, to remind States of the Department's position, on March 11, 2009, the Department issued UIPL No. 18-09, with UIPL No. 09-98 as an attachment. UIPL No. 18-09 is published below to inform the public and is available at: http://wdr.doleta.gov/directives/attach/UIPL/UIPL18-09.pdf.

SUPPLEMENTARY INFORMATION:

UIPL 18-09—Application of State-Wide Personnel Actions, including Hiring Freezes, to the Unemployment Insurance Program

1. Purpose. To advise states that Unemployment Insurance Program Letter (UIPL) 09-98 expresses the Department's position concerning the application of state-wide personnel actions such as hiring freezes, shutdowns, and furloughs to the unemployment insurance (UI) program.

2. References. Section 303(a)(1) of the Social Security Act (SSA) and UIPL 09-98, issued on January 12, 1998 (63 FR 6774, 6779 (February 10, 1998)).

3. Background. During economic downturns, State revenues decline while demands for UI services increase. As a result of declines in State revenues, States face budget constraints and some may impose hiring freezes or other personnel actions such as furloughs on a state-wide basis. When applied to the UI program, these actions will likely have a detrimental effect on unemployed workers and businesses and result in decreased performance against Federal standards.

UIPL 09-98 expresses the Department's interpretation of the Federal UI law requirements as applied to these state-wide personnel actions. In brief, UIPL 09-98 provides that any state-wide personnel action that does not take into account the needs of the UI program is not a “method of administration” for assuring the proper and prompt delivery of UI services consistent with Section 303(a)(1), SSA. If the UI program is not exempted from such state-wide actions, the UIPL requires States to demonstrate to the Department that it has adequately addressed the UI program's needs.

A copy of UIPL 09-98 is attached.

4. Action. States are to address state-wide personnel actions applied to the UI program consistent with UIPL 09-98.

5. Inquiries. Inquiries should be directed to your Regional Office.

6. Attachment. UIPL 09-98.

Attachment I

UIPL 09-98

UIPL 09-98 was published in the Federal Register, Volume 63, No. 27 on February 10, 1998 and may be found at: http://frwebgate.access.gpo.gov/cgi-bin/getdoc.cgi?IPaddress=frwais.access.gpo.gov&dbname=1998_register&docid=98-3341-filed.pdf.

Dated: This 11th day of August, 2009.
Jane Oates,
Assistant Secretary of Labor, Employment and Training Administration.

[FR Doc. E9-19523 Filed 8-13-09; 8:45 am]

BILLING CODE 4510-FW-P